DEPARTMENT OF ENERGY

[FE Docket No. PP-252]

Withdrawal of Notice of Intent To Prepare an Environmental Impact Statement GenPower, New York, L.L.C.

AGENCY: Office of Fossil Energy, DOE.

ACTION: Notice of withdrawal.

SUMMARY: On February 6, 2002, the Department of Energy (DOE) announced its intent to prepare an Environmental Impact Statement (EIS) in accordance with the National Environmental Policy Act of 1969 (NEPA) for GenPower New York, L.L.C.'s (GenPower) request for a Presidential permit for a proposed international electric transmission line. The proposed Federal action in this EIS was to grant GenPower a Presidential permit for the construction, operation, maintenance, and connection of a submarine cable originating in Goldboro, Nova Scotia, Canada, and terminating in New York City, New York. The EIS would have evaluated the potential environmental impacts associated with the proposed Federal action and reasonable alternatives.

In a letter dated February 17, 2005, GenPower notified DOE that as a result of market conditions, it has decided not to undertake the project and has withdrawn its application for a Presidential permit. Therefore, further preparation of an EIS is not necessary. The notice of intent to prepare an EIS is withdrawn and the NEPA process is hereby terminated.

FOR FURTHER INFORMATION CONTACT: Ellen Russell, Office of Fossil Energy, FE-27, U.S. Department of Energy, 1000 Independence Avenue, SW., Washington, DC 20585. Telephone 202-586-9624; electronic mail: ellen.russell@hq.doe.gov.

For general information on the DOE NEPA process, please contact: Carol M. Borgstrom, Director, Office of NEPA Policy and Compliance (EH-42), U.S. Department of Energy, 1000 Independence Avenue, SW., Washington, DC 20585-0119. Phone: 202-586-4600 or leave a message at 800-472-2756; facsimile: 202-586-7031.

SUPPLEMENTARY INFORMATION: The construction, operation, maintenance and connection of facilities at the international border of the United States for the transmission of electric energy between the United States and a foreign country is prohibited in the absence of a Presidential permit issued pursuant to Executive Order (EO) 10485, as amended by EO 12038.

On September 29, 2001, GenPower filed an application with the Office of Fossil Energy (FE) of DOE for a Presidential permit. GenPower proposed to construct a ±500,000-volt direct current submarine cable across the U.S. border with Canada. The transmission line proposed by GenPower would have originated in Goldboro, Nova Scotia, Canada, and terminated approximately 800 to 900 miles to the south east in New York City, New York.

Issued in Washington, DC, on February 28, 2005.
Ellen Russell,
Acting Deputy Director, Electric Power Regulation, Office of Fossil Energy.

[FR Doc. 05-4221 Filed 3-3-05; 8:45 am]

BILLING CODE 6450-01-P